DEPARTMENT OF DEFENSE

Office of the Secretary

[Docket ID: DoD-2025-OS-0507]

Submission for OMB Review; Comment Request

AGENCY: Cost Assessment and Program Evaluation (CAPE), Department of Defense (DoD).

ACTION: 30-Day information collection notice.

SUMMARY: The DoD has submitted to the Office of Management and Budget (OMB) for clearance the following proposal for collection of information under the provisions of the Paperwork Reduction Act.

DATES: Consideration will be given to all comments received by December 26, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Software Resource Data Reports; DD Forms 3026-1, 3026-2, 3026-3; OMB Control Number 0704-0636.

Type of Request: Extension.

Software Development Report (DD 3026-1)

Number of Respondents: 12.

Responses per Respondent: 12.

Annual Responses: 144.

Average Burden per Response: 16 hours.

Annual Burden Hours: 2,304.

Software Maintenance Report (DD 3026-2)

Number of Respondents: 11.

Responses per Respondent: 14.

Annual Responses: 154.

Average Burden per Response: 16 hours.

Annual Burden Hours: 2,464.

Enterprise Resource Planning (ERP) Report (DD 302603)

Number of Respondents: 12.

Responses per Respondent: 11.

Annual Responses: 132.

Average Burden per Response: 16 hours.

Annual Burden Hours: 2,112.

Total

Number of Respondents: 35.

Annual Responses: 430.

Annual Burden Hours: 6,880.

Needs and Uses: The intent of the Software Resource Date Reports is to capture software resource and effort data, at the Software Release and Computer Software Configuration Item levels that are significant either for a current program, or when a similar effort may be required for a future program. The collected data is the primary data source utilized when completing cost estimates. Respondents are any weapon system contractor or government entity with contracts, subcontracts, or agreements that are required to provide Cost and Software Data Reports based on all anticipated costs that individually or collectively surpass the corresponding dollar thresholds established in DoDI 5000.73. CAPE is statutorily required by Title 10, United Stated Code (U.S.C.) in Section 2334(g), to “develop policies, procedures, guidance and a collection method to ensure that quality acquisition cost data are collected to facilitate cost estimation and comparison across acquisition programs.” Section 2334(g) also contains a $100,000,000 threshold statutory requirement for providing cost data from each acquisition program that exceeds this amount.

Affected Public: Individuals and households.

Frequency: Annually.

Respondent's Obligation: Voluntary.

DOD Clearance Officer: Mr. Reginald Lucas.

Dated: November 21, 2025.
Sephanie. J. Bost,
Alternate OSD Federal Register Liaison Officer, Department of Defense.

[FR Doc. 2025-21161 Filed 11-25-25; 8:45 am]

BILLING CODE 6001-FR-P